DEPARTMENT OF COMMERCE

National Institute of Standards and Technology

[Docket No.: 040225071-4071-01]

Radiation Detection Instrument Evaluations

AGENCY: National Institute of Standards and Technology, Commerce.

ACTION: Notice.

SUMMARY: On behalf of the Department of Homeland Security (DHS), the National Institute of Standards and Technology (NIST) is coordinating performance tests, supporting the ANSI N42.32, N42.33, N42.34 and N42.35 standards, of commercially available equipment for the DHS by various National laboratories. The tests are designed to determine the effectiveness of radiation detection instruments that may be used by first responders in a radiological incident. The participating National laboratories are: Oak Ridge National Laboratory (ORNL), Pacific Northwest National Laboratory (PNNL), Los Alamos National Laboratory (LANL) and Lawrence Livermore National Laboratory (LLNL).

DATES: Manufacturers who wish to participate in the program must contact NIST for shipping instructions, request and submit an executed Letter of Understanding by April 8, 2004, 5 p.m. eastern standard time.

ADDRESSES: Letters of Understanding may be obtained from and should be submitted to Dr. Leticia Pibida, National Institute of Standards and Technology, Physics Laboratory, Ionizing Radiation Division, 100 Bureau Drive, Mail Stop 8462, Gaithersburg, MD 20899-8462. Letters of Understanding may be faxed to: Dr. Leticia Pibida at (301) 926-7416.

FOR FURTHER INFORMATION CONTACT: For shipping and further information, you may telephone Dr. Leticia Pibida at (301) 975-5538 or Dr. Michael Unterweger at (301) 975-5536 or e-mail: leticia.pibida@nist.gov or michael.unterweger@nist.gov.

SUPPLEMENTARY INFORMATION: On behalf of the Department of Homeland Security, the National Institute of Standards and Technology (NIST) is coordinating performance tests of commercially available equipment based on the ANSI N42.32, N42.33, N42.34 and N42.35 standards as well as on the test and evaluation protocols for the Department of Homeland Security (DHS) by various National laboratories. The tests are designed to determine the effectiveness of radiation detection instruments that may be used by first responders in a radiological incident. The participating National laboratories are: Oak Ridge National Laboratory (ORNL), Pacific Northwest National Laboratory (PNNL), Los Alamos National Laboratory (LANL) and Lawrence Livermore National Laboratory (LLNL).

Interested manufacturers should contact NIST at the address given above. NIST will supply a Letter of Understanding, which the manufacturer must execute and send to NIST. NIST will then assign the manufacturer's equipment to the National laboratory conducting the testing for that type of device and will provide the manufacturer with shipping instructions for their equipment. All equipment tested under this program must meet the minimum specifications stated in ANSI Standards N42.32 “Performance Criteria for Alarming Personal Radiation Detectors for Homeland Security,” N42.33 “Portable Radiation Detection Instrumentation for Homeland Security,” N42.34 “Performance Criteria for Hand-held Instruments for the Detection and Identification of Radionuclides,” and N42.35 “Evaluation and Performance of Radiation Detection Portal Monitors for Use in Homeland Security,” as detailed below.

The instruments provided will be tested according to the provisions in the standards and will be returned to the manufacturer after the tests by the National laboratory that performed the tests. Manufacturers should be aware that some of the testing protocols may damage or destroy the equipment. At the conclusion of the testing, the equipment will be returned to the Manufacturer, c.o.d., in the condition the equipment is in at the conclusion of the testing. Neither NIST, the Department of Homeland Security, nor any National laboratory will be responsible for the condition of the equipment when returned to the manufacturer. As a condition for participating in this testing program, each manufacturer must agree in advance to hold harmless all of these parties for the condition of the equipment.

The information acquired during the tests will be compiled by the Department of Homeland Security (DHS) and will be copied to the manufacturer for their instruments. A summary of the results of equipment testing will be made publicly available. Manufacturers who do not want the results of the testing of their equipment to be made publicly available should not participate in this program.

Participating manufacturers must provide three units of each instrument model. For portal monitors, two units of each instrument model are required. Manufacturers will pay all shipping costs, but there is no cost to the manufacturer for the testing. For the results to be valid two out of three submitted instruments per model must be operational for all tests. No modifications to the instruments are permitted during the testing process.

Only calibrated instruments will be accepted for the testing program.

The types of instruments and preliminary specifications for each type are as follows:

Type A Instruments: Alarming personal radiation devices designed to detect low levels of radiation and alert the wearer with a visible, audible or vibratory alarm. They are not to be electronic dosimeters, radiation survey meters or other instruments designed for health physics use. If submitted for testing under this category, electronic dosimeters, survey meters, and similar health physics instruments will be returned to the manufacturer without testing.

Preliminary Specifications for Type A:

• Personal sized (less than 20 × 10 × 5 cm and less than 400 g).

• Capable of detecting photon exposure rates from approximately 10 to 3000 micro R/h.

• Capable of detecting photon energies from approximately 10 to 1000 keV.

• Capable of photon exposure rate measurements with ±30% accuracy.

• Audible, visible and/or vibratory alarm less than 2 s after detection.

• Optional response to neutrons.

• Mean time to false alarm greater than 1 h.

• Capable of normal operation over temperature range from −20° +50°C and humidity from 40% to 93%.

• Unaffected by RF from 20 MHz to 1000 MHz, magnetic fields of 1 mT and electrostatic discharges of 6-8 kV.

Type B Instruments: Portable radiation detection instrumentation equipped with gamma- and x-ray detectors. The instruments shall be able to determine exposure rate and be equipped with alarming capabilities. The survey meters should be submitted either as a Type 1 or a Type 2 instrument according to standard N42.33 specifications. If submitted for testing under this category, electronic dosimeters, and personal radiation devices instruments will be returned to the manufacturer without testing.

Preliminary Specifications for Type B:

Type 1: Detection and Interdiction.

• Storage space less than 1 ft³ excluding extendable probes.

• Weight less than 10 pounds (4.55 kg).

• Outer instrument case shall be rigid, shock resistant, splash proof and dust resistant.

• Capable of detecting photon exposure rates from approximately 1 to 1000 micro R/h (that can be achieved with several probes).

Type 2: Hazard Assessment.

• Storage space less than 0.12 ft³ excluding extendable probes.

• Weight less than 6 pounds (2.7 kg).

• Outer instrument case shall be rigid, shockproof, waterproof (blowing rain) and dust proof.

• Capable of detecting photon exposure rates from approximately 100 micro R/h to 1000 R/h (that can be achieved with several probes).

For both Type 1 and 2.

• Displays and alarm indications shall be oriented towards the user.

• The instrument case shall be constructed of materials that provide easy decontamination for radioactive materials and other potential surface contaminants.

• Capable of photon exposure rate measurements with ±30% accuracy.

• Instruments shall allow the user to set exposure rate alarm levels.

• Instruments shall indicate at least the following faults: low battery supply; detector failure; and high exposure rate level.

• Batteries shall provide at least 12 hours of continuous use under standard test conditions, i.e., the response of the instrument shall remain unchanged.

• Response time to increase or decrease in exposure rate display (indication of less than 20% from actual exposure rate value) shall be within 4 seconds.

• Instruments readout shall remain “off-scale” for exposure rates greater than the maximum value of the instrument range.

• Capable of normal operation over temperature range from—20°C to +50°C and humidity from 40% to 93%.

• Instruments shall be unaffected by RF interference from 20 MHz to 1000 MHz, magnetic fields of 1 mT, and electrostatic discharges of 6-8 kV.

Type C Instruments: Hand-held instruments for the detection and identification of radionuclides. These instruments shall provide gamma exposure or dose rate measurements, radionuclide identification, and be equipped with indication of neutron radiation. If submitted for testing under this category, instruments that are not equipped with gamma-ray and neutron detectors will be returned to the manufacturer without testing.

Preliminary Specifications for Type C:

• Equipped with neutron detector.

• Capable of detecting photon energies from approximately 25 to 3000 keV.

• The instrument shall have the ability to transfer data to an external device, such as a computer.

• The instrument shall include: a display that is easily readable over the required temperature range and under different lighting conditions, controls that are user-friendly for routine operation, a menu structure that is simple and easy to be followed intuitively, and a user-definable radionuclide library with access via the restricted mode. The instrument shall have at least two different operating modes, one mode for routine operation and the other as a restricted (password protected) mode. The instrument shall be capable of operation if the user is wearing gloves or if the instrument is enclosed in anti-contamination protection (e.g., plastic bag).

• Instruments shall be designed to prevent water ingress from rain, condensing moisture, or high humidity.

• Batteries shall be such that they provide operation for a minimum of 2 hours of continuous use.

• Capable of normal operation over temperature range from 20%C to +50%C and humidity from 40% to 93%.

• Unaffected by RF from 20 MHz to 1000 MHz, magnetic fields of 1 mT and electrostatic discharges of 6-8 kV.

Type D Instruments: Fixed or Transportable portal monitor systems. These types of monitors include fixed or transportable systems used for detection of radioactive materials concealed in people, packages and vehicles (including rail vehicles). These systems shall be capable of detecting gamma-rays emitted from radioactive sources; neutron detection is optional for all models except for vehicle monitoring. If portal monitors for vehicles are submitted for testing without neutron detection capabilities, instruments will be returned to the manufacturer without testing.

Preliminary Specifications for Type D:

• Pedestrian, vehicles, rail vehicles and package monitors equipped with gamma-ray detection are accepted for testing.

• Vehicle monitors shall be equipped with neutron detectors.

• Instruments shall communicate, save and store time history data for later retrieval including background readings prior to and/or after an alarm, alarm information shall include time and date.

• Monitor shall be capable of providing local indication and alarm signals (these signals should be available at a remote station at a distance of at least 50 m).

• Monitors shall continuously indicate its operational or non-operational condition.

• Capable of normal operation over temperature range from “ 30°C +55°C and humidity from 10% to 93%.

• Unaffected by RF from 20 MHz to 1000 MHz, magnetic fields of 1 mT and electrostatic discharges of 6-8 kV.

Dated: March 2, 2004.
Hratch G. Semerjian,
Deputy Director.

[FR Doc. 04-5289 Filed 3-8-04; 8:45 am]

BILLING CODE 3510-13-P